DEPARTMENT OF TRANSPORTATION

Federal Highway Administration

Notice to Rescind a Notice of Intent to Prepare a Supplemental Environmental Impact Statement: State Route 374 From State Route 149 West of River Road to State Route 76 in Clarksville, Montgomery County, TN

AGENCY: Federal Highway Administration (FHWA), DOT.

ACTION: Notice to rescind a Notice of Intent to Prepare a Supplemental Environmental Impact Statement (EIS).

SUMMARY: The FHWA is issuing this notice to advise the public that the Notice of Intent published on April 21, 2010, at 75 FR 20879, to prepare a Supplemental EIS for the extension of SR 374 from SR 149 west of River Road to SR 76 in Clarksville, Montgomery County, Tennessee, is being rescinded.

FOR FURTHER INFORMATION CONTACT: Mr. Charles J. O'Neill, Planning and Program Management Team Leader, FHWA—Tennessee Division Office, 404 BNA Drive-Suite 508 Nashville, TN 37217. Phone: (615) 781-5770.

SUPPLEMENTARY INFORMATION: The FHWA, in cooperation with the Tennessee Department of Transportation, is rescinding the Notice to prepare a Supplemental EIS on a Proposal to extend SR 374 in Clarksville, Montgomery County, Tennessee. A Draft EIS for the extension of SR 374 from SR 13 to SR 76 in Clarksville was approved in March 2000. A Supplemental EIS was being prepared to bring the original EIS into compliance with current environmental laws and regulations. After initiating the Supplemental EIS, it was determined that the proposed project's potential impacts are not expected to be substantial; therefore, preparation of an EIS is not warranted. An Environmental Assessment (EA) documenting the potential social, economic, and environmental effects of the proposed project will be prepared in accordance with the National Environmental Policy Act (NEPA) and applicable environmental laws and regulations. The EA will evaluate the potential effects of the No Build Alternative and the Build Alternative, which is based on Alternative C from the original EIS.

To ensure that the full range of issues related to this proposed action are addressed and all significant issues identified, comments and suggestions are invited from all interested parties. Comments or questions concerning the proposed action should be directed to the FHWA contact person identified above at the address provided above.

(Catalog of Federal Domestic Assistance Program Number 20.205, Highway Planning and Construction. The regulations implementing Executive Order 12372 regarding intergovernmental consultation on Federal programs and activities apply to this proposed program.)

Charles J. O'Neill,
Planning and Program Management Team Leader, Nashville, TN.

[FR Doc. 2011-978 Filed 1-18-11; 8:45 am]

BILLING CODE 4910-22-P